DEPARTMENT OF COMMERCE

National Oceanic and Atmospheric

Administration Membership of the National Oceanic and Atmospheric Administration Performance Review Board

AGENCY: National Oceanic and Atmospheric Administration (NOAA), Department of Commerce (DOC).

ACTION: Notice of membership of the NOAA performance review board.

SUMMARY: NOAA announces the appointment of members who will serve on the NOAA Performance Review Board (PRB). The NOAA PRB is responsible for reviewing performance appraisals and ratings of Senior Executive Service (SES), Senior Level (SL), and Scientific and Professional (ST) members and making written recommendations to the appointing authority on retention and compensation matters, including performance-based pay adjustments, awarding of bonuses, and reviewing recommendations for potential Presidential Rank Award nominees. The appointment of members to the NOAA PRB will be for a period of two (2) years.

DATES: The effective date of service of the ten appointees to the NOAA Performance Review Board is September 30, 2018.

FOR FURTHER INFORMATION CONTACT: James Triem, Director, Executive Resources Division, Workforce Management Office, NOAA, 1305 East-West Highway, Silver Spring, Maryland 20910, (301) 628-1882.

SUPPLEMENTARY INFORMATION: The names and positions of the members for the 2018 NOAA PRB are set forth below:

• Christopher Cartwright, Chair: Director, Budget Office, Office of the Chief Financial Officer

• Irene Parker, Vice-Chair: Assistant Chief Information Officer, National Environmental Satellite Data and Information Service

• Gordon T. Alston: Office of the Director, Financial Reporting And Internal Controls, Office of the Chief Financial Officer/Assistant Secretary for Administration

• Sivaraj Shyam-Sunder: Senior Science Advisor, National Institute of Standards and Technology

• Albert B. Spencer: Chief Engineer, National Weather Service

• Deborah H. Lee: Director, Office of Great Lakes Environmental Research Laboratory, Office of Oceanic and Atmospheric Research

• Mary S. Wohlgemuth: Director, National Center for Environmental Information, National Environ mental Satellite Data and Information Service

• Donna Wieting: Director, Office of Protected Resources, National Marine Fisheries Service

• John S. Luce, Jr.: General Counsel, National Oceanic and Atmospheric Administration

• Julie Roberts: Director of Communications, National Oceanic and Atmospheric Administration.

Dated: August 24, 2018.
Tim Gallaudet,
RDML, Assistant Secretary of Commerce for Oceans and Atmosphere and Acting Under Secretary of Commerce for Oceans and Atmosphere.

[FR Doc. 2018-20695 Filed 9-21-18; 8:45 am]

BILLING CODE 3510-12-P